INTERNATIONAL TRADE COMMISSION

Sunshine Act Meeting; Emergency Notice of Revised Agenda, USITC SE-02-023

Agency Holding the Meeting: International Trade Commission.

Time and Date: August 6, 2002 at 11 a.m.

Place: Room 101, 500 E Street SW., Washington, DC 20436, Telephone: (202) 205-2000.

Status: Open to the public. In accordance with 19 C.F.R. 201.35, the Commission has determined to revise the agenda for the meeting of August 6, 2002 at 11 a.m. as follows:

Matters To Be Considered:

1. Agenda for future meeting: none.

2. Minutes.

3. Ratification List.

4. Inv. Nos. 303-TA-23, 731-TA-566-570, and 731-TA-641 (Final)(Reconsideration)(Remand) (Ferrosilicon from Brazil, China, Kazakhstan, Russia, Ukraine, and Venezuela)—briefing and vote. (The Commission is currently scheduled to transmit its determination and Commissioners' views on remand to the Court of International Trade on or before September 13, 2002.)

5. Inv. No. 731-TA-859 (Final)(Remand)(Certain Circular Seamless Stainless Steel Hollow Products from Japan)—briefing and vote. (The Commission is currently scheduled to transmit its determination and Commissioners' views on remand to the Court of International Trade on or before August 26, 2002.)

6. Outstanding action jackets: none

In accordance with Commission policy, subject matter listed above, not disposed of at the scheduled meeting, may be carried over to the agenda of the following meeting. Earlier announcement of this revised agenda was not possible.

Issued: August 1, 2002.
By order of the Commission.
Marilyn R. Abbott,
Secretary to the Commission.

[FR Doc. 02-19812 Filed 8-1-02; 2:19 pm]

BILLING CODE 7020-02-U